DEPARTMENT OF LABOR

Mine Safety and Health Administration

Petitions for Modification

AGENCY: Mine Safety and Health Administration, Labor.

ACTION: Notice of petitions for modification of existing mandatory safety standards.

SUMMARY: Section 101(c) of the Federal Mine Safety and Health Act of 1977 and 30 CFR Part 44 govern the application, processing, and disposition of petitions for modification. This notice is a summary of petitions for modification filed by the parties listed below to modify the application of existing mandatory safety standards published in Title 30 of the Code of Federal Regulations.

DATES: Comments on the petitions must be received by the Office of Standards, Regulations, and Variances on or before October 18, 2007.

ADDRESSES: You may submit your comments, identified by “docket number” on the subject line, by any of the following methods:

1. E-Mail: Standards-Petitions@dol.gov.

2. Telefax: 1-202-693-9441.

3. Hand-Delivery or Regular Mail: Submit comments to the Mine Safety and Health Administration (MSHA), Office of Standards, Regulations, and Variances, 1100 Wilson Boulevard, Room 2349, Arlington, VA 22209, Attention: Patricia W. Silvey, Director, Office of Standards, Regulations, and Variances.

We will consider only comments postmarked by the U.S. Postal Service or proof of delivery from another delivery service such as UPS or Federal Express on or before the deadline for comments. Individuals who submit comments by hand-delivery are required to check in at the receptionist desk on the 21st floor.

Individuals may inspect copies of the petitions and comments during normal business hours at the address listed above.

FOR FURTHER INFORMATION CONTACT: Edward Sexauer, Chief, Regulatory Development Division at 202-693-9444 (Voice), sexauer.edward@dol.gov (E-mail), or 202-693-9441 (Telefax), or contact Barbara Barron at 202-693-9447 (Voice), barron.barbara@dol.gov (E-mail), or 202-693-9441 (Telefax). [These are not toll-free numbers].

SUPPLEMENTARY INFORMATION:

I. Background

Section 101(c) of the Federal Mine Safety and Health Act of 1977 (Mine Act) allows the mine operator or representative of miners to file a petition to modify the application of any mandatory safety standard to a coal or other mine if the Secretary determines that: (1) An alternative method of achieving the result of such standard exists which will at all times guarantee no less than the same measure of protection afforded the miners of such mine by such standard; or (2) that the application of such standard to such mine will result in a diminution of safety to the miners in such mine. In addition, the regulations at 30 CFR 44.10 and 44.11 establish the requirements and procedures for filing petitions for modifications.

II. Petitions for Modification

Docket Number: M-2007-049-C.

Petitioner: Armstrong Coal Company, Inc., 407 Brown Road, Madisonville, Kentucky 42431.

Mine: Big Run Mine, MSHA I.D. No. 15-18552, located in Ohio County, Kentucky.

Regulation Affected: 30 CFR 75.1908(a)(1) (Nonpermissible diesel-powered equipment; categories).

Modification Request: The petitioner requests a modification of the existing standard to permit an alternative method of compliance for the requirement that equipment that cuts or moves rock or coal be included in the category of heavy-duty diesel-powered equipment. Specifically, the Big Run Mine operates a “mini-trac” fork lift tractor and will replace the forks with a bucket for limited use. Gas test will be conducted as required under 30 CFR 75.1914(g) (ATX 620 multi-gas detectors) as recommended in the guidelines from the Center for Diesel Research (An Emissions-Assisted Maintenance Procedures for Diesel Equipment, “Evaluation of Technology to Reduce Diesel Particulates”). These guidelines serve as the basis for the standard operating procedures. The petitioner states that: (1) With the procedures in place, those working in the mine will be in the intake (fresh air) at all times and at no time will any miner be subject to the exhaust emissions generated from the mini-trac; (2) two 20-pound fire extinguishers and 240 pounds of rock dust will be maintained within 150 feet of the mini-trac at all times in addition to the fire suppression system located on the mini-trac; (3) the mini-trac will be used to clean the escapeway on a limited basis only when the mine is idle and when the mine returns back to production, use of the mini-trac with forks attached only for hauling supplies; (4) no more than five miners will be underground while the mini-trac is in use during rehabilitation of the air course; (5) the miners who are underground will be stationed outby the machine and will not be exposed to dust or gases inby during rehabilitation of the air course; and (6) training will be provided to each miner who operates the mini-trac in the proper inspection and recognition of any deficiencies in the use of the equipment. The petitioner asserts that the proposed alternative method will at all times guarantee no less than the same measure of protection afforded by the standard.

Docket Number: M-2007-050-C.

Petitioner: Chestnut Coal Company, RR 3, Box 142, Sunbury, Pennsylvania 17801.

Mine: # 11 Slope Mine, MHSA I.D. No. 36-09475, located in Northumberland County, Pennsylvania.

Regulation Affected: 30 CFR 49.2(b) (Availability of mine rescue teams).

Modification Request: The petitioner requests a modification of the existing standard to permit the reduction of two mine rescue teams with five members and one alternate each, to two mine rescue teams of three members with one alternate for either team. The petitioner states that the mine is a small anthracite mine and an attempt to utilize five or more rescue team members in the mine's confined working places would result in a diminution of safety to both the miners at the mine and the members of the rescue team. Further, the petitioner states that the mining method used greatly reduces the threat of a disaster and need for rescue teams. The petitioner asserts that the proposed alternative method will in no way provide less than the same measure of protection afforded the miners under the existing standard.

Docket Number: M-2007-051-C.

Petitioner: Chestnut Coal Company, RR 3, Box 142, Sunbury, Pennsylvania 17801.

Mine: #11 Slope Mine, MSHA I.D. No. 36-09475, located in Northumberland County, Pennsylvania.

Regulation Affected: 30 CFR 49.6(a)(1) & (5) (Equipment and maintenance requirements).

Modification Request: The petitioner requests a modification of the existing standard to permit the use of eight self-contained breathing apparatus and eight permissible cap lamps and charging rack instead of using twelve self-contained oxygen breathing apparatus and twelve permissible cap lamps and charging rack at each mine rescue station for its seven member rescue team. The petitioner asserts that the proposed alternative method would not alter, change, or reduce the ability, effectiveness or safety of the underground mine personnel.

Docket Number: M-2007-053-C.

Petitioner: Chestnut Coal Company, RR 3, Box 142, Sunbury, Pennsylvania 17801.

Mine: #11 Slope Mine, MSHA I.D. No. 36-09475, located in Northumberland County, Pennsylvania.

Regulation Affected: 30 CFR 75.360 (Preshift examination at fixed intervals).

Modification Request: The petitioner proposes to modify the application of the standard at its above referenced anthracite coal mine to permit an alternative method of examination and evaluation. The petitioner's intake slope has a pitch of 66 degrees. The petitioner would: (1) Conduct an examination and evaluation from the slope gunboat during the pre-shift examination after an air quantity reading is taken just inby the intake portal, including a visual examination of each seal for physical damage; (2) take an additional air reading and gas test for methane and oxygen deficiency at the intake air split location(s) just off the slope in the gangway portion of the working section; and (3) have the examiner place the date, time and his/her initials at locations where air readings and gas tests are taken prior to anyone entering the mine and properly record the results. The petitioner states that: (1) The slope will be traveled and physically examined in its entire length on a monthly basis regardless of conditions found at the section evaluation point; (2) the dates, times, and examiner's initials will be placed at sufficient locations throughout, and results of the examination will be recorded on the surface; and (3) any hazards detected will be corrected prior to transporting personnel in the slope. The petitioner asserts that the proposed alternative method would provide at least the same measure of protection as the existing standard.

Docket Number: M-2007-054-C.

Petitioner: Chestnut Coal Company, RR 3, Box 142, Sunbury, Pennsylvania 17801.

Mine: #11 Slope Mine, MSHA I.D. No. 36-09475, located in Northumberland County, Pennsylvania.

Regulation Affected: 30 CFR 75.1100-2(a)(2) (Quantity and location of firefighting equipment).

Modification Request: The petitioner requests a modification of the existing standard 30 CFR 75.1100-2(a)(2), which requires that each working section of underground coal mines producing less than 300 tons of coal per shift be provided with specified firefighting equipment and supplies. The equipment and supplies include two portable fire extinguishers, 240 pounds of rock dust in bags or other suitable containers, and at least 500 gallons of water and at least 3 pails of 10 quart capacity. The petitioner proposes to use portable fire extinguishers only, to replace existing requirements where rock dust, water cars, and other water storage equipped with three 10 quart pails are not practical. The petitioner states that equipping its small anthracite mine with two portable fire extinguishers near the slope bottom and an additional portable fire extinguisher within 500 feet of the working face will provide no less than the same measure of protection as under the existing standard. The mine produces low volatile coal and the working section requires frequent de-watering. The petitioner asserts that the proposed alternative method would provide at least the same measure of protection as the existing standard.

Docket Number: M-2007-055-C.

Petitioner: Chestnut Coal Company, RR 3, Box 142, Sunbury, Pennsylvania 17801.

Mine: #11 Slope Mine, MSHA I.D. No. 36-09475, located in Northumberland County, Pennsylvania.

Regulation Affected: 30 CFR 75.1200(d) & (i) (Mine map).

Modification Request: The petitioner proposes to use cross-sections instead of contour lines through the intake slope at locations of rock tunnel connections between veins, and at 1,000 foot intervals of advance from the intake slope. In addition, the petitioner proposes to limit the required mapping of the mine workings above and below to those present within 100 feet of the veins being mined, except when these veins are interconnected to other veins beyond the 100-foot limit, through rock tunnels. The petitioner states that contours provide no useful information due to the steep pitch encountered in mining anthracite coal veins, and their presence would make portions of the map illegible. The petitioner further states that use of cross-sections in lieu of contour lines has been practiced since the late 1800's and provides critical information about the spacing between veins and the proximity to other mine workings, which fluctuate considerably. Additionally, the petitioner states that the mine workings above and below are usually inactive and abandoned, and therefore not subject to changes during the life of the mine. The petitioner states that all mapping for mines above and below are researched by its contract engineer for the presence of interconnecting rock tunnels between veins in relation to the mine and a hazard analysis is done when mapping indicates the presence of known or potentially flooded workings. The petitioner asserts that when evidence indicates that prior mining was conducted on a vein above or below and research exhausts the availability of mine mapping, the vein will be considered to be mined and flooded and appropriate precautions will be taken under 30 CFR 75.388, where possible. Where potential hazards exist and in-mine drilling capabilities limit penetration, petitioner will drill surface boreholes to intercept the mine workings and will analyze the results prior to mining in the affected area. The petitioner asserts that the proposed alternative method would provide at least the same measure of protection as the existing standard.

Docket Number: M-2007-056-C.

Petitioner: Chestnut Coal Company, RR 3, Box 142, Sunbury, Pennsylvania 17801.

Mine: #11 Slope Mine, MSHA I.D. No. 36-09475, located in Northumberland County, Pennsylvania.

Regulation Affected: 30 CFR 75.1202 and 75.1202-1(a) (Temporary notations, revisions, and supplements).

Modification Request: The petitioner requests a modification of the existing standard to permit the required interval of survey to be established on an annual basis from the initial survey lieu of every 6 months. The petitioner proposes to update the mine map by hand notations on a daily basis, conduct subsequent surveys prior to commencing retreat mining, and when either a drilling program under 30 CFR 75.388 or plan for mining into accessible areas under 30 CFR 75.389 is required. The petitioner states that: (1) Low production and slow rate of advance in anthracite mining make surveying on 6 month intervals impractical and, in most cases, annual development is frequently limited to less than 500 feet of gangway advance with associated up-pitch development; (2) the majority of small anthracite mines are using non-mechanized, hand-loading mining methods; (3) development above the active gangway is designed to mine into the level above at designated intervals thereby maintaining sufficient control between both surveyed gangways; and (4) the available engineering/surveyor resources are very limited in anthracite coal fields which makes surveying difficult to achieve. The petitioner asserts that the proposed alternative method would provide at least the same measure of protection as the existing standard.

Docket Number: M-2007-057-C.

Petitioner: Chestnut Coal Company, RR 3, Box 142, Sunbury, Pennsylvania 17801.

Mine: #11 Slope Mine, MSHA I.D. No. 36-09475, located in Northumberland County, Pennsylvania.

Regulation Affected: 30 CFR 75.1400 (Hoisting equipment; general).

Modification Request: The petitioner proposes to use the slope (gunboat) to transport persons in shafts and slopes using an increased rope strength/safety factor and secondary safety rope connection instead of using safety catches or other no less effective devices. The petitioner asserts that a functional safety catch has not been developed and that the proposed alternative method would provide at least the same measure of protection as the existing standard.

Dated: September 12, 2007.
Patricia W. Silvey,
Director, Office of Standards, Regulations, and Variances.

[FR Doc. E7-18367 Filed 9-17-07; 8:45 am]

BILLING CODE 4510-43-P